DEPARTMENT OF TRANSPORTATION

Federal Aviation Administration

14 CFR Part 39

[Docket No. 97-NM-184-AD; Amendment 39-11862; AD 2000-16-07]

RIN 2120-AA64

Airworthiness Directives; Airbus Industrie Model A300 B2 and B4 Series Airplanes

AGENCY: Federal Aviation Administration, DOT.

ACTION: Final rule.

SUMMARY: This amendment supersedes an existing airworthiness directive (AD), applicable to certain Airbus Industrie Model A300 B2 and B4 series airplanes, that currently requires inspection of the fuselage longitudinal lap joints and circumferential joints, and of the stringers and doublers for bonding delamination and cracks; and repairs, as necessary. This amendment requires expansions of certain inspection areas; revisions of certain inspection thresholds or intervals; changes in references to inspection methods; and the addition of a modification to certain longitudinal lap joints. This amendment is prompted by issuance of mandatory continuing airworthiness information by a foreign civil airworthiness authority. The actions specified by this AD are intended to prevent delamination and cracking of the fuselage, which could result in rapid decompression of the airplane.

DATES: Effective September 20, 2000.

The incorporation by reference of certain publications listed in the regulations is approved by the Director of the Federal Register as of September 20, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 85-07-09, amendment 39-5033 (50 FR 13548, April 5, 1985), which is applicable to certain Airbus Industrie Model A300 B2 and B4 series airplanes, was published in the Federal Register on June 1, 2000 (65 FR 34993). The action proposed to continue to require inspection of the fuselage longitudinal lap joints and circumferential joints, and of the stringers and doublers for bonding delamination and cracks; and repairs, as necessary. The action also proposed to require expansions of certain inspection areas; revisions of certain inspection thresholds or intervals; changes in references to inspection; and the addition of a modification to certain longitudinal lap joints.

Comments

Interested persons have been afforded an opportunity to participate in the making of this amendment. No comments were submitted in response to the proposal or the FAA's determination of the cost to the public.

Conclusion

The FAA has determined that air safety and the public interest require the adoption of the rule as proposed.

Cost Impact

There are approximately 20 airplanes of U.S. registry that will be affected by this AD.

The inspection of the bonded longitudinal lap joints and circumferential joints to detect bonding delamination that is currently required by AD 85-07-09, and retained in this AD, takes approximately 146 work hours per airplane to accomplish, at an average labor rate of $60 per work hour. Based on these figures, the cost impact of this currently required action on U.S. operators is estimated to be $175,200, or $8,760 per airplane, per inspection cycle.

The inspection of the bonded longitudinal lap joints and circumferential joints to detect corrosion and cracking that is currently required by AD 85-07-09, and retained in this AD, takes approximately 72 work hours per airplane to accomplish. Based on these figures, the cost impact of this currently required action on U.S. operators is estimated to be $86,400, or $4,320 per airplane, per inspection cycle.

The inspections of the bonded stringers and doublers to detect debonding that are currently required by AD 85-07-09, and retained in this AD, take approximately 129 work hours per airplane to accomplish. Based on these figures, the cost impact of these currently required actions on U.S. operators is estimated to be $154,800, or $7,740 per airplane, per inspection cycle.

The modification of the bonded longitudinal lap joint required by this AD will take as much as 581 work hours (not including access and close) per airplane to accomplish, at an average labor rate of $60 per work hour. Required parts will cost as much as $16,148 per airplane, depending on kits purchased. Based on these figures, the cost impact of the required modification on U.S. operators is estimated to be as high as $1,020,160, or $51,008 per airplane.

The cost impact figures discussed above are based on assumptions that no operator has yet accomplished any of the requirements of this AD, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-5033 (50 FR 13548, April 5, 1985), and by adding a new airworthiness directive (AD), amendment 39-11862, to read as follows:

2000-16-07 Airbus Industrie: Amendment 39-11862. Docket 97-NM-184-AD. Supersedes AD 85-07-09, Amendment 39-5033.

Applicability: Model A300 B2 and B4 series airplanes, manufacturer serial numbers 003 through 156 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent rapid decompression of the airplane due to bonding delamination and cracking of the fuselage, accomplish the following:

Restatement of Requirements of AD 85-07-09

Delamination Inspections of Longitudinal Lap and Circumferential Joints

(a) Except as required by paragraph (d) of this AD: Prior to the threshold limits specified in Table 1 of Airbus Service Bulletin A300-53-148, Revision 6, dated October 10, 1984, or within 6 months after May 13, 1985 (the effective date of AD 85-07-09), whichever occurs later, inspect the fuselage longitudinal lap joints and circumferential joints for bonding delamination, in accordance with the service bulletin.

(1) If no delamination is detected, repeat these inspections in accordance with the schedule shown in Table 1 of the service bulletin.

(2) If delamination is detected during any inspection, prior to further flight, perform the actions indicated in Figure 3, “Follow-up Action,” of the service bulletin.

Corrosion and Crack Inspections of Longitudinal Lap and Circumferential Joints

(b) Except as required by paragraph (d) of this AD: Prior to the threshold limits specified in Figure 1, “Inspection Program,” of Airbus Service Bulletin A300-53-178, Revision 4, dated October 10, 1984, or within 6 months after May 13, 1985, whichever occurs later, visually inspect for corrosion and cracks, and repair if necessary, the bonded longitudinal lap joints and circumferential joints specified in Figure 1 of the service bulletin, in accordance with the service bulletin. Repeat the inspections thereafter in accordance with the schedule shown in Figure 1 of the service bulletin.

Delamination Inspections of Stringers and Doublers

(c) Except as required by paragraph (d) of this AD: Prior to the threshold limits specified in Figure 1, “Inspection Frequency,” of Airbus Service Bulletin A300-53-149, Revision 6, dated October 10, 1984, or within 6 months after May 13, 1985, whichever occurs later, inspect for debonding, and repair, if necessary, bonded stringers and bonded doublers in the area between frame 1 and frame 18 and between frame 40 and frame 80 on all airplanes up to and including serial number 156, and in the area between frame 18 and frame 40 on all airplanes up to and including serial number 104. Repeat the inspections thereafter at intervals specified in Figure 1 of the service bulletin, except for repaired areas. The inspections of stringers are divided into three areas, as indicated in Figure 2 of the service bulletin, with the following options:

(1) Inspection in Area 1 is not required if Modification No. 2904, described in Airbus Service Bulletin A300-53-146, dated November 28, 1980, has been incorporated.

(2) Preventive riveting of stringers located in Area 2 in accordance with Airbus Service Bulletin A300-53-197, dated October 10, 1984, allows for an extension of the interval of subsequent repetitive inspections to the interval required for Area 3.

New Requirements of This AD

Later Service Bulletin Revisions

(d) After the effective date of this new AD, only the following service bulletin revisions shall be used for compliance thresholds and intervals and for accomplishment instructions for the actions required by this AD, as specified in paragraphs (d)(1), (d)(2), and (d)(3) of this AD. For any airplane that, as of the effective date of this AD, has exceeded a revised threshold or interval for any specified action, accomplish that action within 6 months after the effective date of this AD.

(1) Airbus Service Bulletin A300-53-148, Revision 11, dated September 8, 1998, shall be used for the requirements of paragraph (a) of this AD. For corrective actions and follow-on inspections, Figure 5, “Follow-up Action,” of the service bulletin shall be used.

(2) Airbus Service Bulletin A300-53-178, Revision 10, dated September 8, 1998, shall be used for the requirements of paragraph (b) of this AD. For inspection thresholds and intervals, Paragraph C., “Description,” of the service bulletin shall be used.

(3) Airbus Service Bulletin A300-53-149, Revision 14, including Appendix 01, dated September 8, 1998, shall be used for the requirements of paragraph (c) of this AD. For inspection thresholds and intervals, Figure 1, Sheet 1, “Inspection Frequency,” of the service bulletin shall be used.

Modification of Lap Joints (Partial Terminating Action)

(e) Within 60 months after the effective date of this AD, modify the bonded longitudinal lap joints in accordance with Airbus Service Bulletin A300-53-0209, Revision 10, dated July 5, 1999. Accomplishment of the modification terminates the repetitive inspections required by paragraph (a) of this AD for stringers 29 and 35 in section 18 only.

Alternative Methods of Compliance

(f) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(g) Special flight permits may be issued in accordance with §§ 21.197 and 21.199 of the Federal Aviation Regulations (14 CFR 21.197 and 21.199) to operate the airplane to a location where the requirements of this AD can be accomplished.

Incorporation by Reference

(h) Except as provided by paragraphs (a), (b), and (c) of this AD, the actions shall be done in accordance with Airbus Service Bulletin A300-53-148, Revision 11, dated September 8, 1998; Airbus Service Bulletin A300-53-178, Revision 10, dated September 8, 1998; Airbus Service Bulletin A300-53-0149, Revision 14, including Appendix 01, dated September 8, 1998; and Airbus Service Bulletin A300-53-0209, Revision 10, dated July 5, 1999; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directives 97-371-235(B), dated December 3, 1997, and 1984-140-064(B)R3, dated October 6, 1999.

Effective Date

(i) This amendment becomes effective on September 20, 2000.

Issued in Renton, Washington, on August 8, 2000.
Donald L. Riggin,
Acting Manager, Transport Airplane Directorate, Aircraft Certification Service.

[FR Doc. 00-20506 Filed 8-15-00; 8:45 am]

BILLING CODE 4910-13-U